DEPARTMENT OF AGRICULTURE

Food and Nutrition Service

Agency Information Collection Activities: Proposed Collection; Comment Request—FNS 275—SNAP Quality Control Regulations

AGENCY: Food and Nutrition Service (FNS), USDA.

ACTION: Notice.

SUMMARY: In accordance with the Paperwork Reduction Act of 1995, this notice invites the general public and other public agencies to comment on this proposed information collection. This is a revision of a currently approved information collection request.

DATES: Written comments must be received on or before August 28, 2020.

ADDRESSES: Comments may be sent to Stephanie Proska, Food and Nutrition Service, U.S. Department of Agriculture, 1320 Braddock Place, Room 05.5040, Alexandria, VA 22314. Comments may also be submitted via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program (SNAP).

OMB Number: 0584-0303.

Expiration Date: July 31, 2020.

Type of Request: Revision of a currently approved collection.

Abstract: Section 16 of the Food and Nutrition Act of 2008, as amended, provides the legislative basis for the operation of the SNAP QC system. Part 275, Subpart C, of SNAP regulations implements the legislative mandates found in Section 16. Section 11(d) of the Food and Nutrition Act of 2008, as amended (the Act), requires each State agency administering SNAP to submit a plan of operation specifying the manner in which the program is conducted and Section 11(e) of the Act authorizes the inclusion of other provisions as required by regulation. In Part 275, there are four components of the Quality Control (QC) system that are covered in this required information collection. They are: (1) The sampling plan; (2) the arbitration process; (3) the good cause process; and (4) QC-related New Investments.

Each State agency is required to develop a sampling plan that demonstrates the integrity of its case selection process. The QC system is designed to measure each State agency's payment error rate and case and procedural error rate based on a statistically valid sample of SNAP cases. A State agency's payment error rate represents the proportion of cases that were reported through a QC review as being ineligible, as well as the proportion of SNAP benefits that were either overissued or underissued to SNAP households. A State agency's case and procedural error rate represents the correctness of a proportion of cases that were measured in a QC review in which the State agency took an action to deny an application or suspend or terminate the benefits of a participating household. It also includes the accuracy of measuring a State's compliance with Federal procedural requirements for those actions, which include the timeliness of the action and adherence to notice requirements.

The QC system also contains procedures for resolving differences in review findings between State Agencies and FNS. This is referred to as the arbitration process. As part of the arbitration process, State agencies must defend, in writing, their disagreement with the Federal re-reviewer's finding or disposition of a case and submit their defense to the arbitrator for a decision to be made on their disagreement.

The QC system also contains procedures that provide relief for State agencies from all or a part of a QC liability when a State agency can demonstrate that a part or all of an excessive error rate was due to an unusual event that had an uncontrollable impact on the State agency's payment error rate. This is referred to as the good cause process.

Finally, when a State agency is unable to demonstrate that a part or all of an excessive error rate was due to an unusual event that had an uncontrollable impact on the State agency's payment error rate and chooses to settle with FNS by investing fifty percent of their total QC liability using new State agency funds into the SNAP program to target the root causes of their errors, the State agency must submit a new investment plan and, after approval, new investment progress reports every six months until the plan is complete.

Burden for the QC system includes reporting and recordkeeping burden for State agencies to create a QC sampling plan and participate in the arbitration, good cause, new investment plan and new investment progress report processes.

The requested revisions for the reporting burdens for each component are as follows: (1) The estimated annual reporting burden associated with the QC sampling plan is 371 hours, an increase of 106 hours from the current collection due to FNS increasing the burden hours per response from 5 hours to 7 hours; (2) The estimated annual reporting burden associated with arbitration is 1,224 hours, a decrease of 288 hours from the current collection due to less arbitration requests; (3) The estimated annual reporting burden associated with the good cause process is 160 hours, which is a decrease of 160 hours from the current collection; (4) The estimated annual reporting burden associated with the new investment plan is 288 hours, an increase of 160 hours from the current collection due to more State agencies needing to do new investment; and finally (5) The estimated annual reporting burden associated with the new investment progress report is 90 hours, an increase of 50 hours from the current collection due to more State agencies needing to do progress reports.

The requested total estimated reporting burden for this collection is 2133 hours, a decrease of 132 hours.

The requested annual recordkeeping burden associated with the QC sampling plan remains at 1.25 hours per year. The revised annual recordkeeping burden associated with arbitration has decreased from 1.4868 hours to 0.8496 and the good cause process burden decreased from 0.0472 hours to 0.0236 hours due to fewer states requesting arbitration and good cause. The estimated recordkeeping burden for the QC-related new investment plan increased from 0.0944 hours to 0.0214 hours and the estimated recordkeeping burden for the QC-related new investment process report increased from 0.1888 hours to 0.4248 hours due to more states needing to do new investment plans and progress reports since the collection's last approval. The burden for recordkeeping has decreased from 3.068 hours to 2.7612 hours.

As a result, the overall annual reporting and recordkeeping burden for the QC system, as proposed by this notice, decreased from 2,268.07 hours to 2,135.76 hours. A decrease of 132.31 burden hours.

Affected public | Requirement | Estimated number of respondents | Responses annually per respondent | Total annual responses (col. bxc) | Estimated average number of hours per response | Estimated total hours (col. dxe)
Reporting Burden
State Agencies | Sampling Plan | 53 | 1 | 53 | 7 | 371
State Agencies | Arbitration Process | 12 | 3 | 36 | 34 | 1,224
State Agencies | Good Cause Process | 1 | 1 | 1 | 160 | 160
State Agencies | New Investment Plan Template Form FNS 74 A | 9 | 1 | 9 | 32 | 288
State Agencies | New Investment Progress Report Template Form FNS 74 B | 9 | 2 | 18 | 5 | 90
Grand Total Reporting | 53 |  | 117 |  | 2,133

Affected public | Requirement | Estimated number of respondents | Number of reports annually per state | Number of total annual records | Estimated time per record | Estimated total recordkeeping hours
Recordkeeping Burden
State Agencies | Sampling Plan | 53 | 1 | 53 | 0.0236 | 1.2508
State Agencies | Arbitration Process | 12 | 3 | 36 | 0.0236 | 0.8496
State Agencies | Good Cause Process | 1 | 1 | 1 | 0.0236 | 0.0236
State Agencies | New Investment Plan Template Form FNS 74 A | 9 | 1 | 9 | 0.0236 | 0.2124
State Agencies | New Investment Progress Report Template Form FNS 74 B | 9 | 2 | 18 | 0.0236 | 0.4248
Grand Total Recordkeeping | 53 |  | 117 |  | 2.7612
Combined Grand Total Reporting and Recordkeeping | 53 | 4.41509434 | 234 | 9.12718462 | 2,135.76

Pamilyn Miller,
Administrator, Food and Nutrition Service.

[FR Doc. 2020-13918 Filed 6-26-20; 8:45 am]

BILLING CODE 3410-30-P